DEPARTMENT OF THE INTERIOR

Bureau of Land Management

[MT-070-07-1990-EX]

Notice of Intent To Prepare an Environmental Impact Statement on a Plan of Operations for the Graymont Western U.S. proposed expansion of the Indian Creek Limestone Mine and To Initiate the Public Scoping Period, in Montana

AGENCY: Bureau of Land Management, Interior.

ACTION: Notice of intent.

SUMMARY: In accordance with section 102(2)(C) of the National Environmental Policy Act of 1969 and 43 CFR part 3809, the Bureau of Land Management (BLM) Butte Field Office will be directing the preparation of an Environmental Impact Statement (EIS) by a third-party contractor on the potential impacts of a proposed Plan of Operations for a proposed expansion of limestone mining operations by Graymont Western U.S., Inc.

DATES: This Notice initiates the 30-day public scoping period. Within 30 days of the publication of this Notice, public scoping meetings will be held in Townsend and Helena, Montana to familiarize the public with the project and to identify issues and concerns to be addressed in the EIS. The date, time, and location of each scoping meeting will be announced through the local news media, newsletters, and the BLM Web site at http://www.mt.blm.gov/Butte at least 15 days prior to the event. Any additional public meetings, if necessary, will be announced similarly. Comments on issues can also be submitted in writing to the address listed below for 30 days after publication of this Notice in the Federal Register. In addition to the initial public participation process, formal opportunities for public participation will be provided upon publication of the Draft EIS.

ADDRESSES: You may submit comments by any of the following methods:

—E-mail: david_r_williams@blm.gov, ghallsten@mt.gov.

—Fax: (406) 533-7660 (BLM), (406) 444-4386 (Department of Environmental Quality).

—Mail: Send to the attention of the Graymont Mine Project Manager, BLM Butte Field Office, 106 North Parkmont, Butte, MT 59701 or Greg Hallsten, Director's Office, Montana Department of Environmental Quality, PO Box 200901, Helena, MT 59620-0901.

Comments, including names and street addresses of respondents, will be available for public review at the above address of the BLM Butte Field Office during regular business hours 7:30 a.m. to 4:30 p.m., Monday through Friday, except holidays, and may be published as part of the EIS. Anonymous comments will not be considered. Individual respondents may request confidentiality. Before including your address, phone number, e-mail address, or other personal identifying information in your comment, be advised that your entire comment—including your personal identifying information—may be made publicly available at any time. While you can ask us in your comment to withhold from public review your personal identifying information, we cannot guarantee that we will be able to do so. All submissions from organizations and businesses, and from individuals identifying themselves as representatives or officials of organizations or businesses, will be available for public inspection in their entirety.

FOR FURTHER INFORMATION CONTACT: David Williams or Joan Gabelman, at the BLM Butte Field Office, 106 North Parkmont, Butte, Montana 59701, telephone: (406) 533-7600 or Greg Hallsten at the Director's Office, Montana Department of Environmental Quality, PO Box 200901, Helena, MT 59620-0901, telephone: (406) 444-3276.

SUPPLEMENTARY INFORMATION: Graymont Western U.S., Inc. has submitted a proposal to expand limestone mining operations at its Indian Creek Mine and Plant located approximately four miles west of Townsend, Montana. The mine expansion would include portions of sections 27, 28, 29, 32, 33, and 34, T. 7 N. R. 1 E. and portions of sections 4, 5, 8, 9, 16, 17, 20, 21, 28, and 29, T 6 N., R. 1 E. The proposed expansion would be a continuation to the south of Graymont's existing permitted operations in the Limestone Hills. The mine expansion would include quarry areas, topsoil salvage areas, haul roads and waste rock placement areas, and concurrent reclamation. Approximately 2,060 acres of public land would be disturbed, of which 1,000 acres are represented by this proposed expansion. The remaining 1,060 acres have been previously permitted. Proposed mining operations would last for approximately 50 years.

The issues expected to be analyzed in the EIS include potential impacts to the Montana National Guard's training range, including Unexploded Ordnance (UXO), which is present in the proposed expansion area wildlife and cultural resources, and cumulative impacts. In addition, the EIS will analyze the following: geology and minerals; Native American religious concerns; air quality; paleontology; lands and realty; fisheries and aquatic resources; range management; vegetation; soils; visual resources; recreation and wilderness; weeds; social and economic values; environmental justice; and threatened, endangered, candidate, and sensitive resources. A range of alternatives (including, but not limited to, alternative reclamation measures and the no-action alternative) will be developed to address the issues. Mitigating measures will be considered to minimize environmental impacts and to assure that the proposed action does not result in unnecessary or undue degradation of public lands. Federal, state, and local agencies and other individuals or organizations that may be interested in or affected by BLM's decision on Graymont's Plan of Operations are invited to participate in the scoping process with respect to this EIS.

Authority: 43 CFR part 3809.

Richard M. Hotaling,
Field Manager.

[FR Doc. E7-9576 Filed 5-17-07; 8:45 am]

BILLING CODE 4310-$$-P